DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is November 24, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 16, 2014, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. FM 455 from SH 5 to East of Wildwood Trail in Collin County, Texas. The proposed improvements would widen FM 455 from a two-lane undivided roadway to a four-lane divided urban arterial (six-lane ultimate). Left and right turn lanes would be provided at select cross streets and median openings. Six-foot wide sidewalks would be provided on both sides of the roadway. Proposed improvements for the ultimate phase would add one additional travel lane in each direction, resulting in a six-lane roadway divided by a raised median. The length of the proposed project is approximately 1.4 miles. The purpose of the proposed project is to improve mobility of the roadway and improve safety. The actions by TxDOT and Federal agencies and the laws under which such actions were taken are described in, the Categorical Exclusion Determination issued on May 24, 2019, and other documents in the TxDOT project file. The Categorical Exclusion Determination and other documents in the TxDOT project file are available by contacting TxDOT at the address provided above or the TxDOT Dallas District Office at 4777 E Highway 80, Mesquite, TX 75150; telephone (214) 320-4480.

2. FM 2493 from FM 346 to approximately one mile east of US 69, in Smith and Cherokee Counties, Texas. The proposed improvements would construct a four lane highway with two lanes in each direction and a continuous center turn lane, and a grade separated interchange at US 69. The proposed project length is approximately 9.2 miles in length. The purpose of the proposed project is to improve mobility on FM 2493 to accommodate current and future traffic volumes. The actions by TxDOT and Federal agencies and the laws under which such actions were taken are described in the Final Environmental Assessment approved on March 25, 2019, the Finding of No Significant Impact approved on April 24, 2019, and other documents in the TxDOT project file. The Final Environmental Assessment and other documents in the TxDOT project file are available by contacting TxDOT at the address provided above or the TxDOT Tyler District Office at 2709 Front St., Tyler, TX 75702; telephone (903) 510-9100.

3. IH 35E at Bear Creek Road in Dallas County, Texas. The proposed improvements would include reconstructing and widening of the existing two-lane undivided roadway facility to an urban four-lane divided roadway (two lanes in each direction). Proposed improvements would include one 12-ft wide inside travel lane and one 14-ft wide outside shared-use lane (for bicycle accommodation) with raised median and curb and gutter in each direction; and continuous sidewalks and a 12-ft shared-use path within a proposed ROW width of approximately 112 ft. Additional improvements would include reconstruction of the IH-35E/Bear Creek Road intersection and the replacement of the IH-35E frontage road bridges. The length of the proposed project is approximately 2.16 miles. The purpose of the proposed project is to improve the existing roadway to enhance safety and mobility, and mitigate future increases in traffic associated with projected community growth. The actions by TxDOT and Federal agencies and the laws under which such actions were taken are described in, the Categorical Exclusion Determination issued on April 30, 2019, and other documents in the TxDOT project file. The Categorical Exclusion Determination and other documents in the TxDOT project file are available by contacting TxDOT at the address provided above or the TxDOT Dallas District Office at 4777 E Highway 80, Mesquite, TX 75150; telephone (214) 320-4480.

4. Farm to Market (FM) 723 from Avenue D to FM 1093 in Fort Bend County, Texas. This project proposes to widen the existing two-lane roadway to a four-lane roadway with a divided median. The project length is 9.23 miles. The proposed project would require 97.9 acres of new right-of-way. The purpose of the project is to improve mobility, accommodate existing and projected growth, and bring the roadway to current design standards. The actions by TxDOT and Federal agencies and the laws under which such actions were taken are described in the Final Environmental Assessment (EA) approved on April 24, 2019, the Finding of No Significant Impact (FONSI) issued on April 24, 2019 and other documents in the TxDOT project file. The EA, FONSI, and other documents in the TxDOT project file are available by contacting TxDOT at the address provided above or the TxDOT Houston District Office located at 7600 Washington Avenue, Houston, Texas 77007; telephone (713) 802-5076.

5. Blanco Road from West Oak Estates Drive to Borgfeld Drive, Bexar County. This project proposes to improve a 3.2 mile segment of Blanco Road between West Oak Estates and Borgfeld Drive from a two-lane roadway to a four-lane roadway with two 12-foot travel lanes and 6-foot shoulders/bike lanes in each direction. The roadway would have a raised median or a center turn lane and sidewalks on the northbound side of the project. The project is approximately 3.2 miles in length. The actions by TxDOT and Federal agencies and the laws under which such actions were taken are described in the Categorical Exclusion Determination issued on April 15, 2019 and other documents in the TxDOT project file. The Categorical Exclusion determination and other documents in the TxDOT project file are available by contacting TxDOT at the address provided above or the TxDOT San Antonio District Office at 4615 NW Loop 410, San Antonio, TX 78229; telephone (210) 615-5839.

6. FM 1417 widening from US 82 to OB Groner Road, in Grayson County, Texas. The proposed project would construct a six lane highway with three lanes in each direction and a raised median, and interchange improvements at SH 56. The proposed project length is approximately 5.44 miles in length. The purpose of the proposed project is to improve mobility to accommodate current and future traffic volumes. The actions by TxDOT and Federal agencies and the laws under which such actions were taken are described in the Categorical Exclusion approved on April 5, 2019 and other documents in the TxDOT project file. The Categorical Exclusion and other documents in the TxDOT project file are available by contacting TxDOT at the address provided above or the TxDOT Paris District Office at 1365 N Main St., Paris, TX 75460; telephone (903) 737-9213.

7. FM 893 from CR 3685 (Stark Road) to approximately 0.2 miles west of CR 79 (Gum Hollow), in San Patricio County, Texas. The proposed improvements would construct a five lane highway with two lanes in each direction and a continuous center turn lane, and pedestrian facilities. The purpose of the proposed project is to accommodate current and future traffic volumes. The proposed project length is approximately 1.4 miles in length. The actions by TxDOT and Federal agencies and the laws under which such actions were taken are described in the Categorical Exclusion approved on April 12, 2019, and other documents in the TxDOT project file. The Categorical Exclusion and other documents in the TxDOT project file are available by contacting TxDOT at the address provided above or the TxDOT Corpus Christi District Office at 1701 S Padre Island Drive, Corpus Christi, TX 78416; telephone (361) 808-2300.

8. Port Connector Road from Ostos Road to SH 4, in Cameron County, Texas. The proposed new facility would be a two lane highway with one lane in each direction and 10-foot wide shoulders. The purpose of the proposed new road is to address safety and mobility of freight traffic to and from the Port of Brownsville to surrounding roadways, which would improve connections with the Port of Entry at the Los Tomatos Bridge on US 77 and the new Space X Facility at Boca Chica. The proposed project is approximately 2 miles in length. The actions by TxDOT and Federal agencies and the laws under which such actions were taken are described in the Categorical Exclusion approved on April 24, 2019, and other documents in the TxDOT project file. The Categorical Exclusion and other documents in the TxDOT project file are available by contacting TxDOT at the address provided above or the TxDOT Pharr District Office at 600 W US Expressway 83, Pharr, TX 78577; telephone (956) 702-6100.

9. FM 148 from South of FM 3039 to US 175 in Kaufman County, Texas. The proposed project would construct a new location rural roadway connecting FM 148 with US 175. The proposed roadway would consist of two 12-foot wide travel lanes (one in each direction) with 8-foot wide shoulders and turn lanes. Approximately 3,850 feet of US 175 would be reconstructed to create an overpass crossing of the FM 148 bypass. The length of the proposed project is approximately 1.6 miles. The purpose of the proposed project is to improve operations along FM 148, improve mobility and access between FM 148 and US 175, and accommodate future traffic demand on the corridor in a manner compatible with local and regional thoroughfare plans. The actions by TxDOT and Federal agencies and the laws under which such actions were taken are described in the Final Environmental Assessment (EA) approved on March 26, 2019, Finding of No Significant Impact (FONSI) issued on June 3, 2019 and other documents in the TxDOT project file. The EA and other documents are available by contacting TxDOT at the address provided above or the TxDOT Dallas District Office at 4777 E Highway 80, Mesquite, TX 75150; telephone: (214) 320-4480.

10. SH 205 from US 80 in Terrell to Junction of SH 205/John King (S Goliad Street) in Kaufman and Rockwall Counties, Texas. The proposed project would widen the roadway from a two-lane rural highway to an ultimate six-lane divided urban highway. Interim improvements would include constructing a four-lane urban, divided roadway with an inside 12-foot wide travel lane, an outside 14-foot wide shared use lane, and a 42-foot wide median. The ultimate phase of construction would widen the roadway by adding an additional 12-foot wide travel lane in each direction within the median, narrowing the median width to 18 feet. The length of the proposed project is approximately 13.07 miles. The purpose of the proposed project is to improve mobility and safety within the SH 205 corridor. The actions by TxDOT and Federal agencies and the laws under which such actions were taken are described in the Final Environmental Assessment (EA) approved on April 26, 2019, Finding of No Significant Impact (FONSI) issued on April 26, 2019 and other documents in the TxDOT project file. The EA and other documents are available by contacting TxDOT at the address provided above or the TxDOT Dallas District Office at 4777 E Highway 80, Mesquite, TX 75150; telephone: (214) 320-4480.

11. San Antonio Street at the Comal River, Comal County. The project includes replacing the bridge superstructure to accommodate two 15-ft travel lanes, two 2-ft shoulders, and two 8-ft sidewalks. Existing abutments would be replaced and the retaining wall at the abutments would be repaired. Approaches would be widened. The project is approximately 0.1 mile in length. The actions by TxDOT and Federal agencies and the laws under which such actions were taken are described in the Categorical Exclusion Determination issued on March 18, 2019 and other documents in the TxDOT project file. The Categorical Exclusion determination and other documents in the TxDOT project file are available by contacting TxDOT at the address provided above or the TxDOT San Antonio District Office at 4615 NW Loop 410, San Antonio, TX 78229 and (210) 615-5839.

12. SH 72 from Karnes County Line to 0.25 mile East of FM 2980 in DeWitt County. The proposed project would reconstruct and widen SH 72 from a two-lane to a four-lane roadway. Construction would include the addition of one 12-foot wide lane in each direction, a 4-foot wide flush median, and 10-foot wide shoulders. A one mile section of SH 72 would be shifted slightly to the south adjacent to the existing roadway. The total project length is 10.27 miles. The purpose of the project is to improve mobility and enhance safety. The actions by TxDOT and Federal agencies and the laws under which such actions were taken are described in the Final Environmental Assessment (EA) approved on March 21, 2019, the Finding of No Significant Impact (FONSI) issued on May 31, 2019 and other documents in the TxDOT project file. The EA, FONSI and other documents in the TxDOT project file are available by contacting TxDOT at the address provided above or the TxDOT Yoakum District Office at 403 Huck St., Yoakum, TX 77995; telephone (361) 293-4436. The EA, FONSI can also be viewed and downloaded from the following website: https://www.txdot.gov/inside-txdot/projects/studies/yoakum/052319.html.

13. State Highway (SH) 146 from Farm-to-Market (FM) 518 to FM 517 in Galveston County, Texas. The 5.46 mile project will widen SH 146 from a four-lane divided highway to a six-lane divided highway with a grade-separated overpass at SH 96. Approximately 5.3 acres of new right-of-way are required. The actions by TxDOT and Federal agencies and the laws under which such actions were taken are described in the Categorical Exclusion Determination approved April 12, 2019 and other documents in the TxDOT project file. The Categorical Exclusion Determination and other documents in the TxDOT project file are available by contacting TxDOT at the address provided above or the TxDOT Houston District Office located at 7600 Washington Avenue, Houston, Texas 77007; telephone (713) 802-5076.

Authority: 23 U.S.C. 139(l)(1).

Issued on: June 13, 2019.
Michael T. Leary,
Director, Planning and Program Development, Federal Highway Administration.

[FR Doc. 2019-13156 Filed 6-26-19; 8:45 am]

BILLING CODE 4910-22-P